DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq.), this notice announces that the Information Collection Request (ICR) abstracted below has been forwarded to the Office of Management and Budget (OMB) for extension of the currently approved collection. The ICR describes the nature of the information collection and the expected burden. The Federal Register Notice with a 60-day comment period soliciting comments on the following collection of information was published on April 29, 2002, page 21010.

DATES: Comments must be submitted on or before September 19, 2002. A comment to OMB is most effective if OMB receives it within 30 days of publication.

ADDRESSES: Send comments to the Office of Information and Regulatory Affairs, Office of Management and Budget, 725 17th Street, NW., Washington, DC 20503, Attention FAA Desk Officer.

FOR FURTHER INFORMATION CONTACT: Judy Street on (202) 267-9895.

SUPPLEMENTARY INFORMATION:

Federal Aviation Administration (FAA)

Title: Airport Master Record.

Type of Request: Extension of a currently approved collection.

OMB Control Number: 2120-0015.

Form(s): FAA Forms 5010-1, 5010-2, 5010-3, 5010-5.

Affected Public: A total of 19,345 public and private airport operators.

Abstract: 49 USC 329(b) directs the Secretary of Transportation to collect information about civil aeronautics. The goal of this information collection is to obtain a yearly update of all airports on record and new airports with the FAA either through physical inspection or mail solicitation. The information is required to carry out FAA missions related to the aviation industry, flight planning, and airport engineering. The affected public are operators of private and public use airports.

Estimated Annual Burden Hours: An estimated 8,770 hours annually.

Comments Are Invited On: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on August 14, 2002.
Judith D. Street,
FAA Information Collection Clearance Officer, Standards and Information Division, APF-100.

[FR Doc. 02-21183 Filed 8-19-02; 8:45 am]

BILLING CODE 4910-13-M